DEPARTMENT OF TRANSPORTATION

Federal Aviation Administration (FAA)

Notice of Opportunity for Public Comment on Surplus Property Release at Brunswick—Golden Isles Airport, Brunswick, GA

AGENCY: Federal Aviation Administration (FAA), DOT.

ACTION: Notice.

SUMMARY: Under the provisions of Title 49, U.S.C. 47153(c), notice is being given that the FAA is considering a request from the Glynn County Airport Commission to waive the requirement that a 0.739-acre parcel of surplus property, located on Glynn County airport owned and operated land adjacent to, but not contiguace with, Brunswick—Golden Isles Airport, be used for aeronautical purposes.

DATES: Comments must be received on or before March 13, 2013.

ADDRESSES: Comments on this notice may be mailed or delivered in triplicate to the FAA at the following address: Atlanta Airports District Office, Attn: Aimee A. McCormick, Program Manager, 1701 Columbia Ave., Suite 2-260, Atlanta, GA 30337-2747.

In addition, one copy of any comments submitted to the FAA must be mailed or delivered to Steve Brian, Airport Director of Brunswick—Golden Isles Airport at the following address: 295 Aviation Parkway, Ste. 205, Brunswick, GA 31525.

FOR FURTHER INFORMATION CONTACT: Aimee McCormick, Program Manager, Atlanta Airports District Office, 1701 Columbia Ave., Suite 2-260, Atlanta, GA 30337-2747, (404) 305-7143. The application may be reviewed in person at this same location.

SUPPLEMENTARY INFORMATION: The FAA is reviewing a request by the Glynn County Airport Commission to release 0.739 acres of surplus property at the Brunswick—Golden Isles Airport. The property will be purchased with intent for Planned or Commerical Development. The location of the the land relative to existing or anticipated aircraft noise contours greater than 65ldn are not considered to be an issue. The net proceeds from the sale of this property will be used for airport purposes. The proposed use of this property is compatible with airport operations.

Any person may inspect the request in person at the FAA office listed above under FOR FURTHER INFORMATION CONTACT.

In addition, any person may, upon request, inspect the request, notice and other documents germane to the request in person at the Brunswick Golden Isles Airport.

Issued in Atlanta, Georgia on January 30, 2013.
Scott L. Seritt,
Manager, Atlanta Airports District Office, Southern Region.

[FR Doc. 2013-03028 Filed 2-8-13; 8:45 am]

BILLING CODE 4910-13-P